DEPARTMENT OF ENERGY

Federal Energy Regulatory Commission

[Project No. 2210-108]

Appalachian Power Company, dba American Electric Power; Notice of Intent to File License Application, Filing of Pre-Application Document (PAD), Commencement of Licensing Proceeding, Issuance of Scoping Document, Solicitation of Study Requests and Comments on the PAD and Scoping Document

December 30, 2004.

a. Type of Filing: Notice of intent to file a license application for a new license under the integrated licensing process and commencing licensing proceeding.

b. Project No.: 2210-108.

c. Date Filed: October 25, 2004.

d. Submitted By: Appalachian Power Company, d/b/a American Electric Power.

e. Project Name: Smith Mountain Hydroelectric Project.

f. Location: On the headwaters of the Roanoke River in south-central Virginia, within the counties of Bedford, Campbell, Franklin and Pittsylvania, and near the city of Roanoke, Virginia. No federal lands are occupied by the project works or otherwise located within the project boundary.

g. Filed Pursuant to: 18 CFR part 5 of the Commission's Regulations.

h. Appalachian Power Contact: Frank M. Simms, Hydro Support Manager, Appalachian Power Company, Hydro Generation, PO Box 2021, Roanoke, VA 24022-2121; (540) 985-2875; fmsimms@aep.com.

i. FERC Contact: Allan Creamer, Federal Energy Regulatory Commission, 888 First Street, NE., Washington, DC 20426; (202) 502-8365; allan.creamer@ferc.gov.

j. We are asking federal, state, local, and tribal agencies with jurisdiction and/or special expertise with respect to environmental issues to cooperate with us in the preparation of the environmental document. Agencies who would like to request cooperating status should follow the instructions for filing comments described in paragraph p below.

k. With this notice, we are initiating informal consultation with: (1) The U.S. Fish and Wildlife Service and NOAA Fisheries, as appropriate, under section 7 of the Endangered Species Act and the joint agency regulations thereunder at 50 CFR 402; and (2) the State Historic Preservation Officer, as required by section 106, National Historic Preservation Act, and the implementing regulations of the Advisory council on Historic Preservation at 36 CFR 800.2.

l. With this notice, we are designating Appalachian Power Company as the Commission's non-federal representative for carrying out informal consultation, pursuant to section 7 of the Endangered Species Act. By letter dated November 4, 2003, we designated Appalachian Power Company as the Commission's non-federal representative for carrying out informal consultation pursuant to section 106 of the National Historic Preservation Act.

m. Appalachian Power Company filed a Pre-Application Document (PAD), including a proposed process plan and schedule, with the Commission, pursuant to 18 CFR 5.6 of the Commission's regulations.

n. A copy of the PAD is available for review at the Commission in the Public Reference Room or may be viewed on the Commission's Web site, http://www.ferc.gov, using the “eLibrary” link. Enter the docket number, excluding the last three digits in the docket number field, to access the document. For assistance, contact FERC Online Support at FERCONlineSupport@ferc.gov or toll free at (866) 208-3676, or for TTY, (202) 502-8659. A copy is also available for inspection and reproduction at Appalachian Power Company, Hydro Generation, 40 Franklin Road, Roanoke, VA 24022.

Register online at http://ferc.gov/esubscribenow.htm to be notified via e-mail of new filings and issuances related to this or other Commission projects. For assistance, contact FERC Online Support.

o. Concurrent with this notice, we are issuing Scoping Document 1 (SD1), which outlines the alternatives and issues to be addressed in our environmental document, to the individuals and entities on the Commission's mailing list. Copies of SD1 will be available at the scoping meetings described in item r below, or is available for review at the Commission in the Public Reference Room or may be viewed on the Commission's Web site, http://www.ferc.gov, using the “eLibrary” link, as described in item n above. Based on all oral and written comments, a Scoping Document 2 (SD2) may be issued. SD2 will include any revisions to the list of issues outlined in SD1 that are identified during the scoping process, and may include a revised process plan and schedule.

p. With this notice, we are soliciting comments on the PAD and SD1, as well as any study requests. All comments on the PAD and SD1, and study requests should be sent to the address above in paragraph h. In addition, all comments on the PAD and SD1, study requests, requests for cooperating agency status, and all communications with Commission staff related to the merits of the proposed application (original and eight copies) must be filed with the Commission at the following address: Magalie R. Salas, Secretary, Federal Energy Regulatory Commission, 888 First Street, NE., Washington, DC 20426. All filings with the Commission must include, on the first page, the project name (Smith Mountain Hydroelectric Project) and number (P-2210-108), and bear the heading “Comments on Pre-Application Document,” “Study Requests,” “Comments on Scoping Document 1,” “Request for Cooperating Agency Status,” or “Communications with Commission Staff.” Any individual or entity interested in submitting study requests, commenting on the PAD or SD1, and any agency requesting cooperating status must do so by March 1, 2005.

Comments on the PAD and SD1, study requests, requests for cooperating agency status, and other permissible forms of communications with the Commission may be filed electronically via the Internet in lieu of paper. See 18 CFR 385.2001(a)(1)(iii) and the instructions on the Commission's Web site, http://www.ferc.gov, under the “e-Filing” link. The Commission strongly encourages electronic filings. For assistance, please contact FERC Online Support.

q. At this time, the Commission intends to prepare an Environmental Assessment for the project, in accordance with the National Environmental Policy Act.

r. Scoping Meetings: Commission staff will hold two scoping meetings in the vicinity of the project, at the time and place noted below. The daytime meeting will focus on resource agency, Indian tribes, and non-governmental organization concerns, while the evening meeting is primarily for receiving input from the public. We invite all interested individuals, organizations, and agencies to attend one or both meetings, and to assist staff in identifying particular study needs, as well as the scope of environmental issues to be addressed in the environmental document. The times and locations of these meetings are as follows:

Daytime Scoping Meeting

Date and Time: January 26, 2005 from 3 to 5 p.m. (EST), and continuing on January 27 at 9 a.m.

Location: First Baptist Church, 502 South Main St., Gretna, VA 24557.

Phone: (434) 656-2600.

Evening Scoping Meeting

Date and Time: January 27, 2005 at 7 p.m. (EST).

Location: First Baptist Church, 502 South Main St., Gretna, VA 24557.

The scoping meetings are posted on the Commission's calendar, located on the Internet at http://www.ferc.gov/EventCalendar/EventsList.aspx, along with other related information.

Site Visit

Appalachian Power Company will conduct a site visit of the project on January 26, 2005, beginning at 9 a.m. All participants should meet at the First Baptist Church, located at 502 South Main St. in Gretna, VA. We will tour the Smith Mountain dam and powerhouse, the Leesville dam and powerhouse, and view Smith Mountain and Leesville Lakes from the facilities. Participants should be prepared to provide their own transportation. Anyone with questions about the site visit should contact Frank Simms of Appalachian Power Company at (540) 985-2875. Those individuals planning to participate should notify Mr. Simms of their intent, on or before January 19, 2005.

Meeting Objectives

At the scoping meetings, staff will: (1) Initiate scoping of the issues; (2) review and discuss existing conditions and resource management objectives; (3) review and discuss existing information and identify preliminary information and study needs; (4) review and discuss the process plan and schedule for pre-filing activities that incorporates the time frames provided for in part 5 of the Commission's regulations and, to the extent possible, maximizes coordination of federal, state, and tribal permitting and certification processes; and (5) discuss the appropriateness of any federal or state agency or Indian tribe acting as a cooperating agency for development of our environmental document.

Meeting Procedures

The scoping meetings will be recorded by a court reporter and all statements, oral and written, will become part of the Commission's official public record for this project.

Magalie R. Salas,
Secretary.

[FR Doc. E4-3916 Filed 1-3-05; 8:45 am]

BILLING CODE 6717-01-P